DEPARTMENT OF THE INTERIOR

National Park Service

[NPS-NERO-BOHO-20609; PPMPSPD1Z.YM0000; PPNEBOHAS1]

Request for Nominations for the Boston Harbor Islands National Recreation Area Advisory Council

AGENCY: National Park Service, Interior.

ACTION: Request for nominations.

SUMMARY: The National Park Service (NPS), U.S. Department of the Interior, proposes to appoint new members to the Boston Harbor Islands National Recreation Area Advisory Council (Council). The NPS is requesting nominations for qualified persons to serve as members of the Council.

DATES: Written nominations must be received by June 6, 2016.

ADDRESSES: Nominations or requests for further information should be sent to Mary Raczko, Partnership Liaison, Boston Harbor Islands National Recreation Area, 15 State Street, Suite 1100, Boston, MA 02109, telephone (617) 223-8669, or email mary_raczko@nps.gov.

SUPPLEMENTARY INFORMATION: The Boston Harbor Islands National Recreation Area Advisory Council is a Federal advisory committee established by 16 U.S.C. 460kkk(g).

The objectives and scope of the Council's activities as defined by the Act are to represent various groups with interests in the Boston Harbor Islands National Recreation Area and make recommendations to the Boston Harbor Islands Partnership on issues related to the development and implementation of the park's integrated resource management plan.

The Council is composed of 18 members appointed by the Director to three year terms. In accordance with the statute, the Director is to appoint no fewer than three individuals to represent each of the following categories of entities: (a) Municipalities; (b) educational and cultural institutions; (c) environmental organizations; (d) business and commercial entities (including those related to transportation, tourism and the maritime industry); (e) Boston Harbor Islands-related advocacy organizations; and (f) organizations representing Native American interests. The chairman is selected by the members.

Each member shall be appointed for a term of three years and may be reappointed for not more than two successive terms. A member may serve after the expiration of that member's term until a successor has taken office.

We are currently seeking members to represent all categories.

Nominations should be typed and should include a resume providing an adequate description of the nominee's qualifications, including information that would enable the Department of the Interior to make an informed decision regarding meeting the membership requirements of the Commission and permit the Department of the Interior to contact a potential member.

Members of the Commission serve without compensation. However, while away from their homes or regular places of business in the performance of services for the Commission as approved by the Designated Federal Officer, members may be allowed travel expenses, including per diem in lieu of subsistence, in the same manner as persons employed intermittently in Government service are allowed such expenses under 5 U.S.C. 5703.

Individuals who are Federally registered lobbyists are ineligible to serve on all Federal Advisory Committee Act (FACA) and non-FACA boards, committees, or councils in an individual capacity. The term “individual capacity” refers to individuals who are appointed to exercise their own individual best judgment on behalf of the government, such as when they are designated Special Government Employees, rather than being appointed to represent a particular interest.

All nominations must be compiled and submitted in one complete package. Incomplete submissions (missing one or more of the items described above) will not be considered.

Dated: April 28, 2016.
Alma Ripps
Chief, Office of Policy.

[FR Doc. 2016-10637 Filed 5-5-16; 8:45 am]

BILLING CODE 4310-EE-P